DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Southeastern Pennsylvania Transportation Authority

[Waiver Petition Docket Number FRA-2005-22688]

Southeastern Pennsylvania Transportation Authority (SEPTA) seeks a waiver of compliance with 49 CFR 229.27(d)(2) (locomotive safety standards), which requires locomotives that are equipped with a self-monitoring event recorder to undergo further maintenance and testing if a “download of the event recorder, taken within the preceding 30 days and reviewed for the previous 48 hours of locomotive operation, reveals a failure to record a regularly recurring data element or reveals that any required data element is not representative of the actual operations of the locomotive during this time period.” Specifically, 49 CFR 229.27(d)(2) provides that, “[i]f the review is not successful, further maintenance and testing shall be performed until a subsequent test is successful. When a successful test is accomplished, a record, in any medium, shall be made of that fact and of any maintenance work necessary to achieve the successful result. This record shall be kept at the location where the locomotive is maintained until a record of a subsequent successful test is filed. The download shall be taken from information stored in the certified crash-worthy crash-hardened event recorder memory module if the locomotive is so equipped.”

SEPTA operates a fleet of MU passenger locomotives that have an event recorder incorporated within the cab signal system. The event recorder incorporates a software self-test every 250 milliseconds whenever the system is energized. If any event recorder input fails, a fault is declared, which causes a penalty brake application, and the fault is logged. SEPTA believes that the system has proved reliable with no data lost over the previous 10 years. SEPTA requests that they be allowed to continue this practice of checking fault indications at the time of periodic inspections, and if the waiver is granted, that they perform no annual downloads of their event recorders.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (FRA-2005-22688) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on October 4, 2006.
Grady C. Cothen, Jr.,
Deputy Associate Administrator, for Safety Standards and Program Development.

[FR Doc. E6-16696 Filed 10-6-06; 8:45 am]

BILLING CODE 4910-06-P